DEPARTMENT OF THE INTERIOR

Fish and Wildlife Service

Notice of Receipt of Renewal of Endangered Species Permit

AGENCY: Fish and Wildlife Service, Interior.

ACTION: Notice of receipt.

SUMMARY: The public is invited to comment on the following permit renewal to continue to conduct certain activities with endangered species.

DATES: Written data, comments, or requests must be received by October 18, 2004.

ADDRESSES: Documents and other information submitted with this renewal are available for review, subject to the requirements of the Privacy Act and Freedom of Information Act, by any party who submits a written request for a copy of such documents within 30 days of the date of publication of this notice to: U.S. Fish and Wildlife Service, Division of Endangered Species, 300 Westgate Center Drive, Hadley, Massachusetts 01035; fax 413-253-8482.

FOR FURTHER INFORMATION CONTACT: Diane Lynch, Regional Endangered Species Permits Coordinator, 413-253-8628.

SUPPLEMENTARY INFORMATION: The public is invited to comment on the following permit renewal to conduct certain activities with endangered species. This notice is provided pursuant to section 10(c) of the Endangered Species Act of 1973, as amended (16 U.S.C. 1531, et seq.).

Applicant: Niagara Mohawk, A National Grid Company, Albany, Schenectady, Saratoga, and Warren Counties, New York, PRT-813745

The applicant requests renewal of a permit to take Karner blue butterfly (Lycaeides melissa samuelis) larvae and eggs as a result of conducting habitat management activities for the purpose of maintenance and enhancement of existing Karner blue butterfly metapopulations. This notification covers activities to be conducted over a two-year period.

Dated: August 31, 2004.
Marvin E. Moriarty,
Regional Director, Region 5.

[FR Doc. 04-20876 Filed 9-15-04; 8:45 am]

BILLING CODE 4310-55-P